FEDERAL ENERGY REGULATORY COMMISSION

[Docket No. PF05-1-000]

Colorado Interstate Natural Gas Company; Notice of Intent To Prepare an Environmental Assessment for Colorado Interstate Natural Gas Company's Proposed Raton Basin 2005 Expansion Project and Request for Comments on Environmental Issues

October 27, 2004.

The staff of the Federal Energy Regulatory Commission (FERC or Commission) will prepare an environmental assessment (EA) that will discuss the environmental impacts of Colorado Interstate Natural Gas Company's (CIG's) proposed Raton Basin 2005 Expansion Project. The project is located in Las Animas and Baca Counties, Colorado; in Morton County, Kansas; and Texas and Beaver Counties, Oklahoma. This notice announces the opening of the scoping process we ¹ will use to gather input from the public and interested agencies on the project. Your input will help us determine which issues need to be evaluated in the EA. The Commission will use the EA in its decision-making process to determine whether to authorize the project. Please note that the scoping period will close on December 15, 2004.

¹ “We,” “us,” and “our” refer to the environmental staff of the FERC's Office of Energy Projects.

The FERC will be the lead federal agency in the preparation of the EA which will satisfy the requirements of the National Environmental Policy Act (NEPA). The Raton Basin 2005 Expansion Project is in the preliminary design stage. At this time no formal application has been filed with the FERC. For this project, the FERC staff is initiating its NEPA review prior to receiving the application. The purpose of our pre-filing process is to involve interested stakeholders early in project planning and to identify and resolve issues before an application is filed with the FERC. A docket number (PF05-1-000) has been established to place information filed by CIG, and related documents issued by the Commission, into the public record.² Once a formal application is filed with the FERC, a new docket number will be established.

² To view information in the docket, follow the instructions for using the eLibrary link at the end of this notice.

This notice is being sent to landowners; federal, state, and local government agencies; Indian tribes; elected officials; environmental and public interest groups; and local libraries and newspapers. With this notice, we are asking federal, state, and local agencies with jurisdiction and/or special expertise with respect to environmental issues to formally cooperate with us in the preparation of the EA. Agencies that would like to request cooperating status should send a letter describing the extent to which they want to be involved. Follow the instructions for filing comments provided below.

Some affected landowners may be contacted by a project representative about the acquisition of an easement to construct, operate, and maintain the proposed facilities. If they are, the company would seek to negotiate a mutually acceptable agreement. However, if the project is certificated by the Commission, that approval conveys the right of eminent domain for securing easements for the pipeline. Therefore, if easement negotiations fail to produce an agreement, the company could initiate condemnation proceedings in accordance with state law.

Summary of the Proposed Project

CIG requests Commission authorization to construct and operate approximately 102 miles of natural gas pipeline looping, and to upgrade existing and install new above-ground facilities, parallel to CIG's existing Picketwire Lateral, Campo Lateral, 10A, and 12A natural gas pipelines. The Little Bear and Wet Canyon Meter Stations on nearby lateral natural gas pipelines would also be upgraded. The pipeline loops would consist of the following:

• Line 151B 20″ Expansion—1.9 miles of 20-inch-diameter pipeline in Las Animas County, Colorado;

• Line 200B 16″ Expansion West—4.8 miles of 16-inch-diameter pipeline in Las Animas County, Colorado;

• Line 200B 16″ Expansion Middle—30.3 miles of 16-inch-diameter pipeline in Las Animas County, Colorado;

• Line 200B 16″ Expansion East—34.3 miles of 16-inch-diameter pipeline in Baca County, Colorado;

• Line 10C 24″ Expansion—23.6 miles of 24-inch-diameter pipeline in Baca County, Colorado and Morton County, Kansas;

• Line 12B 24″ Expansion—7.2 miles of 24-inch-diameter pipeline in Texas County, Oklahoma

Upgrading of existing, and installation of new, above-ground facilities would occur at four locations along Line 151B, three locations along Line 200B West, three locations along Line 200B Middle, three locations along Line 200B East, four locations along Line 10C, and three locations along Line 12B. In addition, CIG would install 1,775 horsepower of compression at the Beaver Compressor Station on Line 12A in Beaver County, Oklahoma.

A map depicting the proposed pipeline loops is provided in Appendix 1.³

³ The appendices referenced in this notice are not being printed in the Federal Register. Copies of all appendices, other than Appendix 1 (maps), are available on the Commission's Web site at the “eLibrary” link or from the Commission's Public Reference and Files Maintenance Branch, 888 First Street, NE., Washington, DC 20426, or call (202) 502-8371. For instructions on connecting to eLibrary refer to page 6 of this notice. Copies of the appendices were sent to all those receiving this notice in the mail.

At this time, CIG has executed five precedent agreements with natural gas producers in the Rotan Basin production area for 104,600 decatherms/day of the proposed transportation capacity on CIG's system. These producers have requested an in-service date as early as October 1, 2005. Therefore, CIG would seek an order authorizing the project to be issued no later than May 2005 in order construct and place the requested facilities into service in October 2005. CIG plans to file its application between December 2004 and January 2005.

Land Requirements for Construction

The loops would be spaced about 35 feet from the existing pipelines. The nominal construction right-of-way (ROW) would be 85 feet wide, partially overlapping the existing 50-foot-wide ROW. The nominal width would be reduced to 75 feet through wetlands and the Comanche National Grasslands, and would be increased up to 120 feet for storage of segregated topsoil in agricultural areas and for safe working conditions in rugged terrain. CIG would require extra work areas along the nominal ROW at roads, railroads, waterbody and wetland crossings as well as 1-5 acre-size contractor yards, pipe yards and staging yards at the ends of loops or in off-line areas. CIG would reroute 0.9 miles of Line 200B West near Trinidad in Las Animas County, Colorado, to avoid potential residential development. Following construction, CIG would require a new total permanent ROW width of 80 feet to be kept under easement.

Construction of the proposed facilities would require a total of about 1,224 acres of land, which includes 364 acres of additional permanent ROW, 690 acres of temporary nominal ROW, 56 acres of extra work spaces alongside the nominal ROW, and 114 acres of off-line work spaces for pipe yards, contractor yards and staging areas. CIG would use numerous access roads during construction. Most of these roads would be existing roads, and several access roads may be widened and/or lengthened.

Upgrading and installation of above-ground facilities would be done within CIG's existing ROW and would involve construction mostly within previously disturbed fenced-in graveled areas. Following construction, all temporary ROW and extra work spaces for the loop installations would be restored and allowed to revert to its former use.

The EA Process

NEPA requires the Commission to take into account the environmental impacts that could result from an action whenever it considers the issuance of a Certificate of Public Convenience and Necessity. NEPA also requires us to discover and address issues and concerns the public may have about proposals. This process is referred to as “scoping.” The main goal of the scoping process is to focus the analysis in the EA on the important environmental issues and reasonable alternatives. By this notice, we are requesting agency and public comments on the scope of the issues to be analyzed and presented in the EA. All scoping comments received will be considered during the preparation of the EA. To ensure your comments are considered, please carefully follow the instructions in the public participation section of this notice.

Our independent analysis of the issues will be included in an EA. The EA may be mailed to Federal, state, and local government agencies; Indian tribes; elected officials; environmental and public interest groups; affected landowners; other interested parties; local libraries and newspapers; and the Commission(s official service list for this proceeding. Depending on the response to this notice and the nature of issues raised during the review process, a 30-day comment period may be allotted for review of the EA. We will consider all comments on the EA before we make our recommendations to the Commission.

Currently Identified Environmental Issues

The EA will discuss impacts that could occur as a result of construction and operation of the proposed project. We have already identified a number of issues that we think deserve attention based on a preliminary review of the proposed facilities and the environmental information provided by CIG. This preliminary list of issues may be changed based on your comments and our analysis.

• Geology and Soils

—Soils with high erosion and poor revegetation potential.

—Lands set-aside for the Conservation Reserve Program.

• Water Resources and Wetlands

—Crossing of 5 perennial streams.

—Crossing small wetlands.

• Vegetation

—Crossing approximately 40 miles of short grass prairie, mostly on the west end.

—Crossing approximately 60 miles of cultivated cropland/hayfields, mostly on the east end.

• Threatened and Endangered Species

—Arkansas river shiner, bald eagle, interior least tern, Mexican spotted owl, piping plover, whooping crane, black-footed ferret potentially present in construction area.

—Other listed, candidate, or sensitive species potentially present in the project area include the burrowing owl, ferruginous hawk, lesser prairie-chicken, long-billed curlew, mountain plover, northern goshawk, northern harrier, short-eared owl, and swift fox.

• Cultural Resources

—Santa Fe Trail crossed on Line 200B Middle

—Potential impacts on cultural resources.

—Consultations with Native Americans.

• Land Use

—Crossing primarily rangeland, hay land and cultivated cropland.

—Crossing approximately 10 miles of the Comanche National Grasslands from loops along Line 200B East, Line 200B Middle, and Line 10C.

Public Participation

You can make a difference by providing us with your specific comments or concerns about the project. You should focus on the potential environmental effects of the proposal, reasonable alternatives (including alternative compressor station sites and pipeline routes), and measures to avoid or lessen environmental impact. The more specific your comments, the more useful they will be. By becoming a commentor, your concerns will be addressed in the EA and considered by the Commission. To ensure that your comments are timely and properly recorded, please mail your comments so that they will be received in Washington, DC on or before December 15, 2004, and carefully follow these instructions:

• Send an original and two copies of your letter to: Magalie R. Salas, Secretary, Federal Energy Regulatory Commission, 888 First Street, NE., Room 1A, Washington, DC 20426;

• Label one copy of your comments for the attention of Gas Branch 2, DG2E; and

• Reference Docket No. PF05-1-000 on the original and both copies.

Please note that we are continuing to experience delays in mail deliveries from the U.S. Postal Service. Therefore, the Commission encourages electronic filing of comments. See 18 CFR 385.2001(a)(1)(iii) and the instructions on the Commission's Internet Web site at http://www.ferc.gov under the “e-Filing” link and the link to the User's Guide. Prepare your submission in the same manner as you would if filing on paper and save it to a file on your hard drive. Before you can file comments you will need to create a free account by clicking on “Login to File” and then “New User Account.” You will be asked to select the type of filing you are making. This filing is considered a “Comment on Filing.”

If you do not want to send comments at this time but still want to remain on our mailing list, please return the Information Request (Appendix 3). If you do not return the Information Request, you will be taken off the mailing list.

Intervention

When CIG files its application for authorization to construct the proposed pipeline, the Commission will publish notice of the application in the Federal Register and establish a deadline for interested persons to intervene in the proceeding. Because the Pre-Filing Process occurs before an application to begin a proceeding is officially filed, petitions to intervene during this process are premature and will not be accepted by the Commission. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

Availability of Additional Information

A fact sheet prepared by the FERC entitled “An Interstate Natural Gas Facility On My Land? What Do I Need To Know?” is also available for viewing on the FERC Internet website. This fact sheet addresses a number of typically asked questions, including the use of eminent domain and how to participate in the Commission's proceedings.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at FERCOnlineSupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Information about the project is also available from CIG. CIG has established a single point of contact for the project. The contact is Mr. David Anderson, Manager, Land Department, and can be reached by phone at 1-877-598-5263 or e-mail at david.r.anderson@ElPaso.com.

Magalie R. Salas,
Secretary.

[FR Doc. E4-2984 Filed 11-2-04; 8:45 am]

BILLING CODE 6717-01-P